DEPARTMENT OF TRANSPORTATION

Federal Aviation Administration

[Summary Notice No. PE-2001-89]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC on November 19, 2001.
Donald P. Byrne,
Assistant Chief Counsel for Regulations.

Dispositions of Petitions

Docket No.: FAA-2001-10231.

Petitioner: GE VARIG.

Section of 14 CFR Affected: 14 CFR § 145.47(b).

Description of Relief Sought/Disposition: To permit GE VARIG to use the calibration standards of the Instituto Nacional de Metrologia, Normalizacao e Qualidade Industrial in lieu of the calibration standards of the U.S. National Institute of Standards and Technology to test its inspection and test equipment.

Grant, 10/24/2001, Exemption No. 6709B.

Docket No.: FAA-2001-102363.

Petitioner: Gulfstream Aerospace Services Corporation.

Section of 14 CFR Affected: 14 CFR § 43.9(a)(4), 43.11(a)(3, appendix B to part 43, and § 145.57(a).

Description of Relief Sought/Disposition: To permit Gulfstream qualified technicians and inspection personnel to use electronic signatures in lieu of physical signatures to satisfy approval for return-to-service requirements.

Grant, 10/24/2001, Exemption No. 7653.

Docket No.: FAA-2001-10733 (previously Docket No. 29799).

Petitioner: Bombardier Aerospace, Learjet, Inc.

Section of 14 CFR Affected: 14 CFR § 145.45(f).

Description of Relief Sought/Disposition: To permit Bombardier to place an adequate number of repair station Inspection Procedures Manuals (IPM) in inspection areas and to assign IPMs to key individuals.

Grant, 10/24/2001, Exemption No. 7114A.

Docket No.: FAA-2001-10469.

Petitioner: United Airlines.

Section of 14 CFR Affected: 14 CFR § 145.45(f).

Description of Relief Sought/Disposition: To permit United to make available to all of its supervisory and inspection personnel one copy of its repair inspection procedures manual, rather than giving a copy of the manual to each of these individuals.

Grant, 10/24/2001, Exemption No. 6393C.

Docket No.: FAA-2001-10415.

Petitioner: Wiggins Airways, Inc.

Section of 14 CFR Affected: 14 CFR § 21.197(c)(2).

Description of Relief Sought/Disposition: To permit Wiggins to receive a special flight permit with continuing authorization to conduct ferry flights on its aircraft with nine or fewer passenger seats.

Denial, 10/24/2001, Exemption No. 7654.

Docket No.: FAA-2001-10480.

Petitioner: Business Jet Center, Ltd.

Section of 14 CFR Affected: 14 CFR § 125.226(b)(1).

Description of Relief Sought/Disposition: To permit Business Jet Center, Ltd., to operate one British Aerospace BAC One-Eleven (BAC 1-11) 410AQ airplane, serial No. 054, and one BAC 1-11 419EP airplane, serial No. 120, under part 125 without an approved digital flight data recorder installed.

Grant, 10/17/2001, Exemption No. 7655.

Docket No.: FAA-2001-9687.

Petitioner: Pacific Helicopter Tours, Inc.

Section of 14 CFR Affected: 14 CFR § 135.152(a).

Description of Relief Sought/Disposition: To permit PHT to operate two Bell 212 helicopters and four Sikorsky S-61N helicopters (Serial Nos. 61364, 61488, 61771, and 61821) under part 135 without each of those helicopters being equipped with an approved digital flight data recorder.

Grant, 10/22/2001, Exemption No. 7257B.

[FR Doc. 01-29263 Filed 11-21-01; 8:45 am]

BILLING CODE 4910-13-M